DEPARTMENT OF AGRICULTURE

Submission for OMB Review; Comment Request

October 5, 2011.

The Department of Agriculture has submitted the following information collection requirement(s) to OMB for review and clearance under the Paperwork Reduction Act of 1995, Public Law 104—13. Comments regarding (a) Whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques and other forms of information technology should be addressed to: Desk Officer for Agriculture, Office of Information and Regulatory Affairs, Office of Management and Budget (OMB), Washington, DC, OIRA_Submission@OMB.EOP.gov or fax (202) 395-5806 and to Departmental Clearance Office, USDA, OCIO, Mail Stop 7602, Washington, DC 20250-7602. Comments regarding these information collections are best assured of having their full effect if received within 30 days of this notification. Copies of the submission(s) may be obtained by calling (202) 720-8681.

An agency may not conduct or sponsor a collection of information unless the collection of information displays a currently valid OMB control number and the agency informs potential persons who are to respond to the collection of information that such persons are not required to respond to the collection of information unless it displays a currently valid OMB control number.

Forest Service

Title: Overcoming Barriers to Wildland Fire Defensible Space.

OMB Control Number: 0596—New.

Summary of Collection: The Forest and Rangeland Renewable Resources Research Act of 1978 (Pub. L. 95-307) is the Department of Agriculture's primary authority to conduct research activities. The Secretary is authorized to conduct, support, and cooperate in investigations, experiments, tests, and other activities the Secretary deems necessary to obtain, analyze, develop, demonstrate, and disseminate scientific information about protecting, managing, and utilizing forest and rangeland renewable resources in rural, suburban, and urban areas. This study will provide information regarding barriers to participating in fire hazard reduction programs in the wildland urban interface and basic socio-demographics. The results of this study will assist efforts to decrease the cost to society from wildland fires and improve the efficiency of federal agencies in wildland fire management.

Need and Use of the Information: Information will be collected through a voluntary mail survey of wild land urban interface homeowners. The information collected will help wildland fire managers and researchers (1) Identify practical steps for reducing barriers to implementing defensible space behaviors at an individual and neighborhood level and (2) develop future risk reduction programs. The information will be used by local, county, state, and federal wildland fire managers in the development of educational information regarding defensible space and firewise construction. If the collection is not conducted, agencies will continue to operate their programs under assumptions about their effectiveness that may not be true or scientifically valid.

Description of Respondents: Individuals and households.

Number of Respondents: 4.509.

Frequency of Responses: Reporting: One time.

Total Burden Hours: 2,328.

Charlene Parker,
Departmental Information Collection Clearance Officer.

[FR Doc. 2011-26203 Filed 10-7-11; 8:45 am]

BILLING CODE 3410-P